DEPARTMENT OF THE INTERIOR

National Park Service

Concession Contract Negotiations; ME

AGENCY: National Park Service, Interior.

ACTION: Public notice.

SUMMARY: Public notice is hereby given that the National Park Service proposes to award a temporary concession contract authorizing the operation of carriage rides, horse camp, day use parking, facilities and services for the public at Acadia National Park, Maine for a term not to exceed October 31, 2000.

EFFECTIVE DATE: October 2, 2000.

ADDRESSES: National Park Service, Concession Management Program, Boston Support Office, 15 State Street, Boston, MA 02109-3572, Telephone (617) 223-5209.

SUPPLEMENTARY INFORMATION: This temporary concession contract is being awarded to Mr. Edward Winterberg, Seal Harbor, Maine. It is necessary to award the contract is order to avoid interruption of visitor services.

This action is issued pursuant to 36 CFR Part 51.24(a). This is not a request for proposals and no prospectus is being issued at this time. The Secretary intends to issue a competitive solicitation of offers for a long-term operator to begin in 2001. You may be placed on a mailing list for receiving information regarding the competitive solicitation by sending a written request to the above address.

Dated: July 18, 2000.
Chrysandra L. Walter,
Acting Regional Director, Northeast Region.

[FR Doc. 00-22254 Filed 8-30-00; 8:45 am]

BILLING CODE 4310-70-M